DEPARTMENT OF TRANSPORTATION

Federal Aviation Administration

Thirteenth RTCA SC-229 406 MHz ELT Joint Plenary With EUROCAE WG-98

AGENCY: Federal Aviation Administration (FAA), U.S. Department of Transportation (DOT).

ACTION: Thirteenth RTCA SC-229 406 MHz ELT Joint Plenary with EUROCAE WG-98.

SUMMARY: The FAA is issuing this notice to advise the public of a meeting of Thirteenth RTCA SC-229 406 MHz ELT Joint Plenary with EUROCAE WG-98.

DATES: The meeting will be held December 12-15, 2017 9:00 a.m.-5:00 p.m.

ADDRESSES: The meeting will be held at: RTCA Headquarters, 1150 18th Street NW., Suite 910, Washington, DC 20036.

FOR FURTHER INFORMATION CONTACT: Rebecca Morrison at rmorrison@rtca.org or 202-330-0654, or The RTCA Secretariat, 1150 18th Street NW., Suite 910, Washington, DC, 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of the Thirteenth RTCA SC-229 406 MHz ELT Joint Plenary with EUROCAE WG-98. The agenda will include the following:

Tuesday, December 12, 2017 9:00 a.m.-5:00 p.m.

1. Welcome/Introductions/Administrative Remarks/DFO FACA Statement

2. Agenda overview and approval

3. Minutes Paris meeting review and approval

4. Review Action Items from Paris meeting

5. Review work plan for the week, timeline and Terms of Reference

6. Working group of the whole meeting to resolve the comments on the draft document

Wednesday, December 13, 2017 9:00 a.m.-5:00 p.m.

7. Working group of the whole meeting to resolve the comments on the draft document

Thursday, December 14, 2017 9:00 a.m.-5:00 p.m.

8. Working group of the whole meeting to resolve the comments on the draft document

Friday, December 15, 2017 9:00 a.m.-5:00 p.m.

9. Working group of the whole meeting to resolve the comments on the draft document

10. Action item review

11. Consider a motion to open Final Review and Comment/Open Consultation on the revision to RTCA/DO-204B, EUROCAE ED-62B

12. Future meeting plans and dates for formal FRAC/Open Consultation resolution

13. Other business

14. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on October 26, 2017.
Mohannad Dawoud,
Management & Program Analyst, Partnership Contracts Branch, ANG-A17, NextGen, Procurement Services Division, Federal Aviation Administration.

[FR Doc. 2017-23611 Filed 10-30-17; 8:45 am]

BILLING CODE 4910-13-P